DEPARTMENT OF LABOR

Office of the Secretary

Submission for OMB Review; Comment Request

October 14, 2002

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 693-4158 or e-mail Howze-Marlene@dol.gov.

Comments should be sent to the Office of Information and Regulatory Affairs, Attn: OMB Desk Officer for BLS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Revision of a currently approved collection.

Agency: Bureau of Labor Statistics (BLS).

Title: Point of Purchase Survey.

OMB Number: 1220-0044.

Affected Public: Individuals or households.

Frequency: Quarterly.

Number of Respondents: 25,060.

Number of Annual Responses: 57,280.

Estimated Time Per Response: 11 minutes.

Total Burden Hours: 10,475.

Total Annualized Capital/Startup Costs: $0.

Total Annual Costs (operating/maintaining systems or purchasing services): $0.

Description: Section 2 of Title 29, Chapter 1, Subchapter 1, United States Code Annotated directs the Bureau of Labor Statistics (BLS), under the direction of the Secretary of Labor, to collect, collate, and report full and complete statistics of the conditions of labor and the products and distribution of the products of the same. The Census Bureau conducts the Telephone Point-of-Purchase Survey (TPOPS) for the BLS as part of the Consumer Price Index program. This survey is used to develop and maintain a timely list of retail, wholesale, and service establishments at which urban consumers shop for specified items. The survey results also provide the BLS with basic expenditure estimates that are used to weight unique items that are priced. Without this information, the BLS would not have a statistically accurate list of current establishments visited by consumers, and therefore, could neither collect prices as needed for the CPI nor weight specific items properly.

Marlene J. Howze,
Acting DOL Clearance Officer.

[FR Doc. 02-26839 Filed 10-21-02; 8:45 am]

BILLING CODE 4510-24-M